DEPARTMENT OF TRANSPORTATION

Federal Aviation Administration

[Docket No: FAA-2020-0047]

Deadline for Notification of Intent To Use the Airport Improvement Program Primary, Cargo, and Nonprimary Entitlement Funds Available to Date for Fiscal Year 2020

AGENCY: Federal Aviation Administration, Department of Transportation.

ACTION: Notice.

SUMMARY: This action announces April 1, 2020, as the deadline for each airport sponsor to notify the FAA if it will use its Fiscal Year (FY) 2020 entitlement funds (also referred to as apportioned funds) to accomplish Airport Improvement Program (AIP) eligible projects. Each sponsor has previously identified to the FAA such projects through the Airports Capital Improvement Plan process. This action further announces May 18, 2020, as the deadline for an airport sponsor to submit a final grant application to use FY 2020 entitlement funds.

FOR FURTHER INFORMATION CONTACT: Dave Cushing, Manager, Airports Financial Assistance Division, APP-500, at (202) 267-8827.

SUPPLEMENTARY INFORMATION: Title 49 U.S.C. 47105(f) provides that the sponsor of an airport for which entitlement funds are apportioned shall notify the Secretary, by such time and in a form as prescribed by the Secretary, of the airport sponsor's intent to submit a grant application for its available entitlement funds. Therefore, the FAA is hereby notifying such airport sponsors of the steps required to ensure that the FAA has sufficient time to carry over and convert remaining entitlement funds.

The AIP grant program is operating under the requirements of Public Law 115-254, the “FAA Reauthorization Act of 2018,” enacted on October 5, 2018, which authorizes the FAA through September 30, 2023, and Public Law 116-94, the “Further Continuing Appropriations Act, 2020,” which appropriates FY 2020 funds for the AIP through September 30, 2020. In accordance with legislation enacted as of the date of this notice, the AIP has approximately $2.4 billion of entitlement funds available through September 30, 2020.

This notice applies only to those airports that have entitlement funds apportioned to them, except those nonprimary airports located in designated Block Grant States.

Under 49 U.S.C. 47114(d)(3)(C), an airport listed as having an unclassified status under the most recent National Plan of Integrated Airport Systems, shall accrue entitlement funds in FY 2020. The amount apportioned will only be available to the airport during the same fiscal year and may not be transferred to another airport.

An airport sponsor intending to apply for any of its available entitlement funds, including those unused from prior years, must notify the FAA of its intent to submit a grant application by 12:00 p.m. prevailing local time on Wednesday, April 1, 2020.

This notice must be in writing and address all entitlement funds available to date for FY 2020, including those entitlement funds not obligated from prior years. These notifications are critical to ensure efficient planning and administration of the AIP. The final grant application deadline is Monday, May 18, 2020. The final grant application funding requests are to be based on bids, not estimates.

An airport sponsor must provide its notification and grant applications to its designated FAA Airports District Office (or Regional Office in regions without Airports District Offices). Absent notification of the intent to submit a grant application, or submission of a grant application by the relevant deadlines noted above, the FAA will carry over the remainder of available entitlement funds on Monday, June 1, 2020. These funds will not be available again until at least the beginning of FY 2021. Dates are subject to possible adjustment based on future legislation. As of the publication of this notice, appropriations for the FAA expire on September 30, 2020, and authorization legislation for the FAA expires on September 30, 2023.

The FAA has determined this process and deadline will expedite and facilitate the FY 2020 grant-making process.

Issued in Washington, DC, on January 23, 2020.
Robert John Craven,
Director, Office of Airport Planning and Programming.

[FR Doc. 2020-01435 Filed 1-27-20; 8:45 am]

BILLING CODE 4910-13-P